NATIONAL COMMUNICATIONS SYSTEM

Proposed Collection; Comment Request

AGENCY: National Communications System (NCS).

ACTION: Notice.

In compliance with section 3506(c)(2)(A) of the Paperwork Reduction Act of 1995, the Office of the National Communications System announces the proposed reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 12, 2003.

ADDRESSES: Written comments and recommendations on the proposed information collection should be sent to National Communications System, Code NC3, Attn: Deborah Bea, 701 South Court House Road, Arlington, VA, 22204-2198.

FOR FURTHER INFORMATION CONTACT: To request more information on this proposed information collection or to obtain a copy of the proposal and associated collection instruments, please write to the above address, or call the Office of Priority Telecommunications at 703-607-4933.

Title; Associated Forms; and OMB Number: Telecommunication Service Priority (TSP) System Revalidation for Service Users, Standard Form 314; OMB Number 0704-0305; Telecommunications Service Priority (TSP) System TSP Request for Service Users, Standard Form 315, OMB Number 0704-0305; Telecommuni8cations Service Priority (TSP) System (TSP) Action Appeal for Service Users, Standard Form 317, OMB Number 0704-0305; Telecommunications Service Priority (TSP) System TSP Service Confirmation for Service Vendors, Standard Form 318, OMB Number 0704-l0305; Telecommunications Service Priority (TSP) System TSP Service Reconciliation for Service Vendors, Standard Form 319; OMB Number 0704-0305.

Needs and Use: The Telecommunications Service Priority (TSP) System forms are used to determine participation in the TSP system, facilitate TSP system administrative requirements, and to maintain TSP system database accuracy.

Affected Public: Businesses or other for-profit institutions, not-for-profit institutions, the Federal Government, and State and local governments.

Average Burden Hours: 18,463.

Number of Respondents: 194.

Responses per Respondent: 1,198.

Average Burden per Response: 12.3 hours.

Frequency: On occasion.

SUPPLEMENTARY INFORMATION: The purpose of the TSP system is to provide a legal basis for telecommunications vendors to provide priority provisioning and restoration of telecommunications service supporting national security or emergency preparedness functions. The information gathered via the TSP system forms is the minimum necessary for the NCS to effectively manage the TSP system.

Dr. Peter M. Fonash,
Federal Register Liaison Officer, National Communications System.

[FR Doc. 03-23212 Filed 9-11-03; 8:45 am]

BILLING CODE 500-08-M